DEPARTMENT OF JUSTICE

Bureau of Justice Statistics

[OMB Number 1121-NEW]

Agency Information Collection Activities: Proposed Collection; Comments Requested

ACTION: 60-Day Notice of Information Collection Under Review: Proposed Collection—Former Prisoner Survey.

The Department of Justice (DOJ), Bureau of Justice Statistics, will be submitting the following information collection request to the Office of Management and Budget (OMB) for review and approval in accordance with the Paperwork Reduction Act of 1995. The proposed information collection is published to obtain comments from the public and affected agencies. Comments are encouraged and will be accepted for “sixty days” until July 9, 2007. This process is conducted in accordance with 5 CFR 1320.10.

If you have comments especially on the estimated public burden or associated response time, suggestions, or need a copy of the proposed information collection instrument with instructions or additional information, please contact Christopher Mumola, Bureau of Justice Statistics, 810 Seventh Street NW., Washington, DC 20531 (phone: 202-353-2132).

Written comments and suggestions from the public and affected agencies concerning the proposed collection of information are encouraged. Your comments should address one or more of the following four points:

—Evaluate whether the proposed collection of information is necessary for the proper performance of the functions of the agency, including whether the information will have practical utility;

—Evaluate the accuracy of the agencies estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of this information collection:

(1) Type of Information Collection: New data collection.

(2) Title of the Form/Collection: Former Prisoner Survey.

(3) Agency form number, if any, and the applicable component of the Department of Justice sponsoring the collection: FPS (Survey Questionnaire), FPS-1 (Records Form), FPS-2 (Roster Verification Form), and FPS-C (Consent to Participate in Research). The Bureau of Justice Statistics, Office of Justice Programs, Department of Justice, is the sponsor for the collection.

(4) Affected public who will be asked or required to respond, as well as a brief abstract: Primary: Individuals or Households. Other: State, Local, or Tribal Government. The work under this clearance will be used to develop surveys to produce national estimates for the incidence and prevalence of sexual assault within correctional facilities as required under the Prison Rape Elimination Act of 2003 (Pub. L. 108-79).

(5) An estimate of the total number of respondents and the amount of time estimated for an average respondent to respond: It is estimated that 16,500 former prisoners will be interviewed. Of these, 87% (14,355) are estimated to be non-victims and will spend approximately 30 minutes on average responding to the survey, while 13% (2,145) will be victims and will spend approximately 40 minutes on average responding to the survey. Approximately 200 parole office groupings will be asked to develop and verify rosters of eligible parolees and provide background and contact information for those cases sampled. It is estimated that the rostering and verification process will average approximately 2 hours and 10 minutes per office. Providing contact and background information will average 10.84 hours for the 140 smaller offices (with smaller sample sizes) and 21.67 hours for the 60 larger offices (with larger sample sizes). The total average burden will thus be 13 hours for the 140 smaller offices and 24 hours for the 60 larger offices.

(6) An estimate of the total public burden (in hours) associated with the collection: There are an estimated 11,858 total burden hours associated with this collection.

If additional information is required contact: Lynn Bryant, Department Clearance Officer, United States Department of Justice, Justice Management Division, Policy and Planning Staff, Patrick Henry Building, Suite 1600, 601 D Street NW., Washington, DC 20530.

Dated: May 4, 2007.
Lynn Bryant,
Department Clearance Officer, PRA, Department of Justice.

[FR Doc. E7-9000 Filed 5-9-07; 8:45 am]

BILLING CODE 4410-18-P